NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before February 13, 2003. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-837-3698 or by e-mail to records.mgt@nara.gov. Requesters must cite the control number, which appears in parentheses after the name of the agency which submitted the schedule, and must provide a mailing address. Those who desire appraisal reports should so indicate in their request.

FOR FURTHER INFORMATION CONTACT: Paul M. Wester, Jr., Director, Life Cycle Management Division (NWML), National Archives and Records Administration, 8601 Adelphi Road, College Park, MD 20740-6001. Telephone: 301-837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Commerce, Office of the Secretary (N1-40-03-1, 1 item, 1 temporary item). Duplicate copies of congressional correspondence maintained in the Office of Legislative Affairs.

2. Department of Commerce, Bureau of Industry and Security (N1-476-02-4, 22 items, 14 temporary items). Records of the Office of Strategic Trade and Policy Controls, including such files as annual military critical technologies lists, commodity control and information request case files, seizures and detentions advice files, jurisdiction files, subject files, advisory committee files, retail product files, cables, foreign policy report files, chronological files, and licensing files. Also included are electronic copies of records created using electronic mail and word processing. Records proposed for permanent retention include recordkeeping copies of policy review files, country files, encryption records, high performance computer files, controlled correspondence files, and litigation and appeals files.

3. Department of Defense, Defense Threat Reduction Agency (N1-374-02-6, 10 items, 5 temporary items). Records relating to special weapons research, including raw data, planning records, and files on disapproved or cancelled projects. Also included are electronic copies of documents created using electronic mail and word processing. Proposed for permanent retention are recordkeeping copies of long range planning records, committee files, and records relating to weapons testing.

4. Department of Energy, Bonneville Power Administration, (N1-305-02-2, 18 items, 18 temporary items). Administrative records documenting planned systems and processes to maximize efficiencies in forecasting, marketing, and scheduling power products. Included are records relating to generation distribution and management, system streamlining, load and revenue forecasting, meters analysis, transaction scheduling, and data sharing. Also included are electronic copies of documents created using electronic mail and word processing. This schedule authorizes the agency to apply the proposed disposition instructions to any recordkeeping medium.

5. Department of Justice, United States Marshals Service, (N1-527-03-1, 3 items, 2 temporary items). Electronic copies of documents created using electronic mail and word processing that relate to the agency's official newsletter. Recordkeeping copies of the newsletter are proposed for permanent retention.

6. Department of Labor, Employment Standards Administration (N1-448-03-1, 4 items, 2 temporary items). Electronic copies of records created using electronic mail and word processing that are associated with subject files and chronological files accumulated by the Office of the Assistant Secretary for Employment Standards. Recordkeeping copies of these files are proposed for permanent retention.

7. Department of the Treasury, Offices of the Secretary (N1-56-03-1, 17 items, 16 temporary items). Records relating to educational and community outreach efforts, including such files as student information worksheets, inventories of student outreach efforts, Eagle Scout letters, casework referral files, policy and information letters, and bills of exchange. Also included are electronic copies of records created using electronic mail and word processing. Recordkeeping copies of monthly update reports are proposed for permanent retention.

8. Department of the Treasury, Bureau of the Public Debt, (N1-53-03-2, 48 items, 38 temporary items). Records relating to general program information, press/media coverage, proposed regulations, and testimony. Also included are electronic copies of documents created using electronic mail and word processing. Records are accumulated by the Government Securities Regulation Staff. Recordkeeping copies of important data files, regulations and public comment letters, and files relating to legislation are proposed for permanent retention.

9. Administrative Office of the U.S. Courts, Office of Facilities and Security (N1-116-03-2, 3 items, 3 temporary items). Long range facilities plans, which include data regarding personnel, caseload, and space. Also included are electronic copies of documents created using electronic mail and word processing.

10. Arms Control and Disarmament Agency, Office of the Director (N1-383-03-2, 1 item, 1 temporary item). The Executive Secretary's Paperwork Retrieval and Tracking System, which contains scanned images of selected documents accumulated by the Office of the Director, 1992-1999.

11. Central Intelligence Agency, Information Management Services (N1-263-02-1, 7 items, 2 temporary items). Sound recordings and commercially produced films and videos relating to the Intelligence Community's STAR GATE program. General program files, reports and studies, slide presentations, and related records are proposed for permanent retention.

12. Environmental Protection Agency, Office of Research and Development (N1-412-01-3, 4 items, 2 temporary items). Software programs for the National Emissions Inventory System. Also included are electronic copies of documents created using electronic mail and word processing. Electronic data and the related documentation are proposed for permanent retention.

13. Peace Corps, Crisis Corps (N1-490-02-3, 8 items, 6 temporary items). Recruitment and application files, subject files, and publications background files. Also included are electronic copies of documents created using word processing and electronic mail. Proposed for permanent retention are recordkeeping copies of history files and recruitment/volunteer publications.

Dated: December 20, 2002.
Michael J. Kurtz,
Assistant Archivist for Record Services—Washington, DC.

[FR Doc. 02-32819 Filed 12-27-02; 8:45 am]

BILLING CODE 7515-01-P